DEPARTMENT OF COMMERCE

International Trade Administration

[A-570-920]

Lightweight Thermal Paper From the People's Republic of China: Rescission of Antidumping Duty Administrative Review; 2018-2019

AGENCY: Enforcement and Compliance, International Trade Administration, Department of Commerce.

SUMMARY: The Department of Commerce (Commerce) is rescinding the administrative review of the antidumping duty (AD) order on lightweight thermal paper (LWTP) from the People's Republic of China (China) for the period of review (POR) November 1, 2018 through October 31, 2019, based on the timely withdrawal of the request for review.

DATES: Applicable May 12, 2020.

FOR FURTHER INFORMATION CONTACT: Kyle Clahane, AD/CVD Operations, Office III, Enforcement and Compliance, International Trade Administration, U.S. Department of Commerce, 1401 Constitution Avenue NW, Washington DC 20230; telephone: (202) 482-5449.

SUPPLEMENTARY INFORMATION:

Background

On November 1, 2019, Commerce published in the Federal Register a notice of opportunity to request an administrative review of the AD order on LWTP from China.¹ Commerce received a timely-filed request from Appvion, Inc. (Appvion), a domestic interested party and the petitioner in the underlying investigation, for an administrative review of exports of subject merchandise to the United States during the POR with respect to 16 companies, in accordance with section 751(a) of the Tariff Act of 1930, as amended (the Act), and 19 CFR 351.213(b).² On January 17, 2020, pursuant to this request, and in accordance with 19 CFR 351.221(c)(1)(i), Commerce published a notice initiating an administrative review of the AD order on LWTP from China.³ On March 26, 2020, Appvion withdrew its request for an administrative review with respect to all companies for which it requested a review.⁴

¹ See Antidumping or Countervailing Duty Order, Finding, or Suspended Investigation; Opportunity To Request Administrative Review, 84 FR 58690 (November 1, 2019).

² See Appvion's Letter, “Lightweight Thermal Paper From The People's Republic Of China: Request For Administrative Review,” dated December 2, 2019.

³ See Initiation of Antidumping and Countervailing Duty Administrative Reviews, 85 FR 3014 (January 17, 2020).

⁴ See Appvion's Letter, “Lightweight Thermal Paper from The People's Republic of China: Withdrawal Of Request For Administrative Review,” dated March 26, 2020.

On April 24, 2020, Commerce tolled all deadlines in administrative reviews by 50 days, thereby extending the deadline for these results until September 21, 2020.⁵

⁵ See Memorandum, “Tolling of Deadlines for Antidumping and Countervailing Duty Administrative Reviews in Response to Operational Adjustments Due to COVID-19,” dated April 24, 2020.

Rescission of Review

Pursuant to 19 CFR 351.213(d)(1), Commerce will rescind an administrative review, in whole or in part, if the party or parties that requested a review withdraws the request within 90 days of the publication date of the notice of initiation of the requested review. Appvion timely submitted a request to withdraw its request for administrative review for all companies for which an administrative review was initiated. No other party requested an administrative review of the order. Therefore, in accordance 19 CFR 351.213(d)(1), we are rescinding this review, in its entirety.

Assessment

Commerce will instruct U.S. Customs and Border Protection (CBP) to assess antidumping duties on all appropriate entries of LWTP from China. Antidumping duties shall be assessed at rates equal to the cash deposit of estimated antidumping duties required at the time of entry, or withdrawal from warehouse, for consumption in accordance with 19 CFR 351.212(c)(1)(i). Commerce intends to issue appropriate assessment instructions to CBP 15 days after the date of publication of this notice in the Federal Register.

Notification to Importers

This notice serves as the only reminder to importers whose entries will be liquidated as a result of this rescission notice, of their responsibility under 19 CFR 351.402(f)(2) to file a certificate regarding the reimbursement of antidumping and/or countervailing duties prior to liquidation of the relevant entries during this review period. Failure to comply with this requirement could result in the presumption that reimbursement of the antidumping and/or countervailing duties occurred and the subsequent assessment of double antidumping duties.

Notification Regarding Administrative Protective Order

This notice also serves as a reminder to all parties subject to administrative protective order (APO) of their responsibility concerning the disposition of proprietary information disclosed under APO in accordance with 19 CFR 351.305. Timely written notification of the return/destruction of APO materials or conversion to judicial protective order is hereby requested. Failure to comply with the regulations and terms of an APO is a violation which is subject to sanction.

Notification to Interested Parties

This notice is issued and published in accordance with sections 751(a) and 777(i)(1) of the Act, and 19 CFR 351.213(d)(4).

Dated: May 6, 2020.
James Maeder,
Deputy Assistant Secretary for Antidumping and Countervailing Duty Operations.

[FR Doc. 2020-10072 Filed 5-11-20; 8:45 am]

BILLING CODE 3510-DS-P